DEPARTMENT OF TRANSPORTATION

Federal Aviation Administration

RTCA Special Committee 200: Modular Avionics

AGENCY: Federal Aviation Administration (FAA), DOT.

ACTION: Notice of RTCA Special Committee 200 meeting.

SUMMARY: The FAA is issuing this notice to advise the public of a meeting of RTCA Special Committee 200: Modular Avionics.

DATES: The meeting will be held on May 7-9, 2002 from 9:00 am to 5:00 pm.

ADDRESSES: The meeting will be held at RTCA, Inc., 1828 L Street, NW., Suite 805, Washington, DC 20036-5133.

FOR FURTHER INFORMATION CONTACT: RTCA Secretariat, 1828 L Street, NW., Suite 805, Washington, DC 20036-5133; telephone (202) 833-9339; fax (202) 833-9434; Web site http://www.rtca.org.

SUPPLEMENTARY INFORMATION: Pursuant to section 10(a)(2) of the Federal Advisory Committee Act (Pub. L. 92-463, 5 U.S.C. Appendix 2), notice is hereby given for a Special Committee 200 meeting. Modular avionics are shared, interoperable hardware and software resources that provide services to host applications performing aircraft-related functions. This committee has been established to develop recommended guidance for regulatory approval of the platform and supporting components. SC-200 will propose means to approve the modular avionics platform independent of the operational application and propose a method for transferring certification credit between stakeholders. The committee's document will include guidance for partitioning and resource management, fault management, safety and security, flight operations and maintenance, environmental qualification, configuration management, and assurance.

The agenda will include:

• May 7-9:

• Opening Session (Welcome, Introductory and Administrative Remarks, Review Federal Advisory Committee Act and RTCA procedures, Review Agenda, Review Terms of Reference)

• Organize Working Groups as needed/establish milestones

• Working Group meetings as determined

• Working Group Reports

• Closing Session (Make Assignments, Date and Place of Next Meeting, Closing Remarks, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 27, 2002.
Jane P. Caldwell,
Program Director, System Engineering Resource Management.

[FR Doc. 02-7967 Filed 4-1-02; 8:45 am]

BILLING CODE 4910-13-M